DEPARTMENT OF AGRICULTURE

Forest Service

Lassen National Forest; California; Lassen National Forest Over-Snow Vehicle Use Designation Environmental Impact Statement

AGENCY: Forest Service, USDA.

ACTION: Notice of intent to prepare an environmental impact statement.

SUMMARY: The Forest Service, U.S. Department of Agriculture will prepare an Environmental Impact Statement (EIS) on a proposal to designate over-snow vehicle (OSV) use as allowed, restricted, or prohibited on National Forest System roads, National Forest System trails, and Areas on National Forest System lands within the Lassen National Forest; and to identify snow trails for grooming within the Lassen National Forest. In addition, the Forest Service proposes to:

1. Formally adopt California State Parks' OSV snow grooming standards requiring a minimum of 18 inches of snow depth before grooming can occur;

2. Implement a Forest-wide snow depth requirement for OSV use that would provide for public safety and natural and cultural resource protection by allowing OSV use in designated Areas when there is a minimum of 12 inches of snow covering the landscape; and allow OSV use on designated National Forest System roads and designated National Forest System Trails when there is a minimum of 6 inches of snow covering the road or trail; and

3. Prohibit OSV use in selected Areas and on non-motorized trails.

This proposal would be implemented on all of the Lassen National Forest.

DATES: Comments concerning the scope of the analysis must be received by February 19, 2015. The draft environmental impact statement is expected in October 2015 and the final environmental impact statement is expected in September 2016.

ADDRESSES: Send written comments to Chris O'Brien, on behalf of Dave Hays, Forest Supervisor, Lassen National Forest, 2550 Riverside Drive, Susanville, CA 96130; 530-257-2151. Comments may also be sent via facsimile to 530-252-6463. Comments may be submitted on the Lassen National Forest OSV Designation Web page: http://data.ecosystem-management.org/nepaweb/fs-usda-pop.php?project=45832.

FOR FURTHER INFORMATION CONTACT: Christopher O'Brien, Ph.D., Public Services and Ecosystems Staff Officer, USDA Forest Service, Lassen National Forest, 2550 Riverside Drive, Susanville, CA 96130; 530-257-2151; cjobrien@fs.fed.us.

Individuals who use telecommunication devices for the deaf (TDD) may call the Federal Information Relay Service (FIRS) at 1-800-877-8339 between 8 a.m. and 8 p.m., Eastern Time, Monday through Friday.

SUPPLEMENTARY INFORMATION: Snow Trail Grooming Program: For over 30 years, the Forest Service, Pacific Southwest Region, in cooperation with the California Department of Parks and Recreation (California State Parks) Off-highway Motor Vehicle Division has enhanced winter recreation, and more specifically, snowmobiling recreation by maintaining National Forest System trails (snow trails) by grooming snow for snowmobile use. Most groomed snow trails are co-located on underlying National Forest System roads. Some grooming occurs on County roads and closed snow-covered highways. Grooming activities are funded by the state off-highway vehicle trust fund.

The following summarizes how the Forest Service currently manages OSV use on the approximately 1,150,020-acre Lassen National Forest:

1. Approximately 406 miles of National Forest System OSV trails;

2. Of the approximately 406 miles of National Forest System OSV trails, approximately 324 miles are groomed OSV trails;

3. Approximately 148 miles of National Forest System trail closed to OSV use;

4. Approximately 976,760 acres of National Forest System land open to off-trail cross-country OSV use; and

5. Approximately 173,260 acres of National Forest System land closed to OSV use.

In 2013, the Forest Service entered into a Settlement Agreement with Snowlands Network et al., to “complete appropriate NEPA [National Environmental Policy Act] analysis(es) to identify snow trails for grooming” on the Lassen National Forest and four other national forests in California. The Forest Service will comply with the terms of the Settlement Agreement for the Lassen National Forest by completing this analysis. Other requirements of the Settlement Agreement are listed in the “Need for Analysis” section, below.

Travel Management Rule subpart C: The Forest Service's 2005 Travel Management Rule established new procedures (see 36 CFR part 212 Subpart C), for implementing the requirements of Executive Order (E.O.) 11644, as amended by E.O. 11989 on the National Forest System. On March 29, 2013, the U.S. District Court of Idaho, in the case of Winter Wildlands Alliance v. U.S. Forest Service (2013 WL 1319598, No. 1:11-CV-586-REB (D. Idaho Mar. 29, 2013)), ruled that subpart C of the 2005 Travel Management Rule was invalid because the rule made designation of OSV use of roads, trails and Areas optional. The court ordered the Forest Service to produce a new rule that treats OSVs similar to other motor vehicles by requiring the designation of OSV use on roads, trails, and Areas, consistent with E.O. 11644, as amended by E.O. 11989.

The revised rule was issued for a 45-day public comment period in the Federal Register on June 18, 2014 (79 FR 34678, Jun. 18, 2014). As proposed, subpart C of the Travel Management Rule states, “Over-snow vehicle use on National Forest System roads, on National Forest System trails, and in Areas on National Forest System lands shall be designated as allowed, restricted, or prohibited by the responsible official on administrative units or Ranger Districts, or parts of administrative units or Ranger Districts, of the National Forest System where snowfall is adequate for that use to occur . . . ” (36 CFR 212.81(a)). OSV designations made as a result of the analysis in this Environmental Impact Statement would conform to the final subpart C rule.

Purpose and Need for Action

One purpose of this project is to effectively manage OSV use on the Lassen National Forest to provide access, ensure that OSV use occurs when there is adequate snow, promote the safety of all users, enhance public enjoyment, minimize impacts to natural and cultural resources, and minimize conflicts among the various uses.

There is a need to provide a manageable, designated OSV system of trails and Areas within the Lassen National Forest, that is consistent with and achieves the purposes of the Forest Service Travel Management Rule at 36 CFR part 212. This action responds to direction provided by the Forest Service's Travel Management Rule at 36 CFR part 212 and subpart C of the Travel Management Rule, as proposed.

The existing system of available OSV trails and Areas on the Lassen National Forest is the culmination of multiple agency decisions over recent decades. Public OSV use of the majority of this available system continues to be manageable and consistent with current travel management regulations. Exceptions have been identified, based on internal and public input and the criteria listed at 36 CFR 212.55. These include needs to provide improved access for OSV users and formalize prohibitions required by Forest Plan and other management direction. These exceptions represent additional needs for change, and in these cases, changes are proposed to meet the overall objectives.

Currently, the Forest Service requires 12 or more inches of snow on the ground to operate an OSV on the Lassen National Forest. Although 12 inches of snow may exist at a given time in many higher elevation Areas, there may be less than 12 inches of snow at trailheads, which under current rules, would leave Areas with 12 or more inches of snow inaccessible to OSV use. To improve OSV access to Areas open to OSV use, the proposed action would allow OSV use on designated trails, as long as there are at least 6 inches of snow on the ground.

The Forest Service has also identified two Areas in which OSV use should be prohibited, but there are no existing orders or directives that have formally prohibited OSV use within them. One Area is located in the southwest corner of the Lassen National Forest, below 3,500 feet in elevation. Snowfall is typically not adequate in this Area for OSV use to occur. This Area is approximately 29,130 acres in size. The proposed action would prohibit OSV use in this Area.

The second Area in which OSV use should be prohibited is the Black Mountain Research Natural Area (RNA). The Lassen National Forest Land and Resource Management Plan (Forest Plan) prohibits motorized vehicles within Research Natural Areas, but no formal directive prohibiting such use has been issued. This Area is approximately 520 acres in size. The proposed action would prohibit OSV use in the Black Mountain RNA.

A second purpose of this project is to identify those designated National Forest System OSV trails where grooming for OSV use would occur as required by the Settlement Agreement between the Forest Service and Snowlands Network, et al. Under the terms of the Settlement Agreement, the Forest Service is required to complete the appropriate NEPA analysis to identify snow trails for grooming on the Lassen National Forest. This action would identify snow trails for grooming.

The snow trail grooming analysis would also address the need to provide a high quality snowmobile trail system on the Lassen National Forest that is smooth and stable for the rider. Groomed trails are designed so that the novice rider can use them without difficulty.

Need for Analysis

Pursuant to the Settlement Agreement, the Forest Service is required to complete an appropriate NEPA analysis to identify snow trails for grooming. Subpart C of the Forest Service Travel Management Regulation requires the Forest Service to designate over-snow vehicle (OSV) use as allowed, restricted, or prohibited on National Forest System roads, National Forest System trails, and Areas on National Forest System lands. Both decisions will be informed by an analysis as required by the National Environmental Policy Act (42 U.S.C. 4321 et seq.).

Subpart C of the Travel Management Regulation specifies that all requirements of subpart B of the Travel Management Regulations will continue to apply to the designation decision, including:

1. Public involvement as required by the National Environmental Policy Act (36 CFR 212.52);

2. Coordination with Federal, State, county, and other local governmental entities and tribal governments (36 CFR 212.53);

3. Consideration of the criteria for designation of roads, trails, and Areas (36 CFR 212.55);

4. Identification of designated uses on a publicly available use map of roads, trails, and Areas (36 CFR 212.56); and

5. Monitoring of effects (36 CFR 212.57).

Furthermore, additional terms of the Settlement Agreement require the Forest Service to:

1. Analyze ancillary activities such as the plowing of related parking lots and trailheads as part of the effects analysis;

2. Consider a range of alternative actions that would result in varying levels of snowmobile use; and

3. Consider an alternative submitted by Plaintiffs and/or Interveners in the NEPA analysis so long as the alternative meets the purpose and need, and is feasible and within the scope of the NEPA analysis, and Plaintiffs and/or Interveners provide the Forest Service with a detailed description of that alternative during the scoping period for the NEPA analysis.

Proposed Action

The Forest Service proposes several actions on the Lassen National Forest to be analyzed as required by the National Environmental Policy Act (NEPA). The actions proposed are as follows:

1. To designate OSV use on National Forest System roads, National Forest System trails, and Areas on National Forest System lands within the Lassen National Forest where snowfall depth is adequate for that use to occur. The responsible official would designate OSV use as allowed, restricted, or prohibited on administrative units or Ranger Districts, or parts of administrative units or Ranger Districts of the Lassen National Forest. Areas where off-trail cross country OSV use would be allowed would cover 947,120 acres. Trails where OSV use would be allowed would total 406 miles. All existing OSV prohibitions applying to Areas or trails would continue.

2. Of the 406 miles of designated OSV trails, 324 miles would be groomed by the Forest Service on the Lassen National Forest. Our trail mileages are estimates only and we are currently reviewing groomed trails where there is uncertainty regarding Forest Service jurisdiction.

3. To groom trails consistent with historical grooming practices, when there are 18 inches of snow or more, and formally adopt California State Parks' snow grooming standards requiring a minimum of 18 inches of snow depth before grooming can occur.

4. To implement a Forest-wide snow depth requirement for OSV use that would provide for public safety and natural and cultural resource protection by allowing OSV use in designated Areas when there is a minimum of 12 inches of snow covering the landscape; and allow OSV use on designated National Forest System roads and designated National Forest System Trails when there is a minimum of 6 inches of snow covering the road or trail. When the snow-depth requirement is not met, OSV use would be prohibited. All snow trails would be located on existing dirt, gravel, or paved trails or roads. These trails and roads are used in the summer for highway, OHV, and non-motorized recreation.

5. Area Prohibitions. Over-snow vehicle use is currently prohibited on 173,260 acres of the Lassen National Forest. The proposed action would continue OSV prohibitions in currently prohibited areas and include the following additional prohibitions:

a. Prohibit OSV use in areas below 3,500 feet in elevation in the southwest corner of the Lassen National Forest (approximately 29,130 acres).

b. Prohibit OSV use in the Black Mountain Research Natural Area to be consistent with management area direction in the Forest Plan (approximately 520 acres).

As a result, OSV use would be prohibited on a total of approximately 202,900 acres of the 1,150,020-acre Lassen National Forest.

6. Trail Prohibitions. The proposed action would continue OSV prohibitions on the following trails on the Lassen National Forest:

a. Pacific Crest Trail (approximately 106 miles).

b. Colby Mountain Cross-country Ski Trails (approximately 6 miles).

c. McGowan Lake Cross-country Ski Trails (approximately 5 miles).

d. Biz Johnson Trail from Susanville to Westwood Junction (approximately 17 miles).

e. Lake Almanor Recreation Trail (approximately 9 miles).

f. Eagle Lake Trail (approximately 5 miles).

Over-snow vehicle use that is inconsistent with these designations would be prohibited under 36 CFR part 261 once the decision is issued.

The use designations resulting from this analysis would only apply to the use of over-snow vehicles. An over-snow vehicle is defined in the Forest Service's Travel Management Regulations as “a motor vehicle that is designed for use over snow and that runs on a track or tracks and/or a ski or skis, while in use over snow” (36 CFR 212.1).

Limited administrative use by the Forest Service; use of any fire, military, emergency, or law enforcement vehicle for emergency purposes; authorized use of any combat or combat support vehicle for national defense purposes; law enforcement response to violations of law, including pursuit; and over-snow vehicle use that is specifically authorized under a written authorization issued under Federal law or regulations would be exempt from these designations (36 CFR 212.81(a)).

These actions would begin immediately upon the issuance of the record of decision, which is expected in October of 2016. The Forest Service would produce an OSV use map (OSVUM) that would look like the existing motor vehicle use map (MVUM) for the Lassen National Forest. Such a map would allow OSV enthusiasts to identify the routes and Areas where OSV use would be allowed on the Lassen National Forest.

Responsible Official

The Lassen National Forest Supervisor will issue the decision.

Nature of Decision To Be Made

This decision will designate OSV use on National Forest System roads, on National Forest System trails, and in Areas on National Forest System lands as allowed, restricted, or prohibited on the Lassen National Forest where snowfall is adequate for that use to occur. It will also identify the National Forest System trails where grooming would occur. The decision would only apply to the use of over-snow vehicles as defined in the Forest Service's Travel Management Regulations (36 CFR 212.1). The Forest Supervisor will consider all reasonable alternatives and decide whether to continue current management of OSV uses on the Lassen National Forest, implement the proposed action, or select an alternative for the management of OSV uses.

Scoping Process

This notice of intent initiates the scoping process, which guides the development of the environmental impact statement.

It is important that reviewers provide their comments at such times and in such manner that they are useful to the agency's preparation of the environmental impact statement. Written comments should be within the scope of the proposed action, have a direct relationship to the proposed action, and must include supporting reasons for the responsible official to consider. Therefore, comments should be provided prior to the close of the comment period and should clearly articulate the reviewer's concerns and contentions. The preferred format for attachments to electronically submitted comments would be as an MS Word document. Attachments in portable document format (pdf) are not preferred, but are acceptable.

Comments received in response to this solicitation, including names and addresses of those who comment, will be part of the public record for this proposed action. Comments submitted anonymously will be accepted and considered, however.

The Lassen National Forest Over-Snow Vehicle (OSV) Use Designation is an activity implementing a land management plan. It is not an activity authorized under the Healthy Forests Restoration Act of 2003 (Pub. L. 108-148). Therefore, this activity is subject to pre-decisional administrative review consistent with the Consolidated Appropriations Act of 2012 (Pub. L. 112-74) as implemented by subparts A and B of 36 CFR part 218.

Dated: January 12, 2015.
Dave Hays,
Forest Supervisor.

[FR Doc. 2015-00709 Filed 1-16-15; 8:45 am]

BILLING CODE 3410-11-P